DEPARTMENT OF HEALTH AND HUMAN SERVICES

Administration for Children and Families

Proposed Information Collection Activity; Unaccompanied Children (UC) Program Budget Workbook Template (New Collection)

AGENCY: Office of Refugee Resettlement, Administration for Children and Families, HHS.

ACTION: Request for public comment.

SUMMARY: The Administration for Children and Families' (ACF) Office of Refugee Resettlement (ORR) is requesting clearance for the proposed new collection titled “UC Program Budget Workbook” to streamline budget details and justifications of applicants to funding opportunities.

DATES: Comments due within 60 days of publication. In compliance with the requirements of the Paperwork Reduction Act of 1995, ACF is soliciting public comment on the specific aspects of the information collection described above.

ADDRESSES: Copies of the proposed collection of information can be obtained and comments may be forwarded by emailing infocollection@acf.hhs.gov. Alternatively, copies can also be obtained by writing to the Administration for Children and Families, Office of Planning, Research, and Evaluation (OPRE), 330 C Street SW, Washington, DC 20201, Attn: ACF Reports Clearance Officer. All requests, emailed or written, should be identified by the title of the information collection.

SUPPLEMENTARY INFORMATION:

Description: The UC Program Budget Workbook will streamline the budget detail and justification documentation for applicants to any upcoming Notice of Funding Opportunity (NOFO). This new information collection will provide guidance to the applicant as well as a fillable form to insert calculations and budget line items. With the assistance of this template, the review of applications will be expedited since documentation will be clearer and more unified. Additionally, this will facilitate the completion of applications that may not otherwise be completed due to lack of budget documentation guidance in past NOFOs.

Respondents: New and existing applicants to NOFOs for residential services for UC.

Annual Burden Estimates
Instrument | Total number of respondents | Total number of responses per respondent | Average burden hours per response | Total burden hours | Annual burden hours
UC Program Budget Form | 120 | 3 | 90 | 32,400 | 10,800

Estimated Total Annual Burden Hours: 10,800.

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Authority: 8 U.S.C. 1522 of the Immigration and Nationality Act (the Act) (Title IV, Sec. 412 of the Act) and 45 CFR 400.28(b).

Mary B. Jones,
ACF/OPRE Certifying Officer.

[FR Doc. 2021-20547 Filed 9-22-21; 8:45 am]

BILLING CODE 4184-45-P